FEDERAL COMMUNICATIONS COMMISSION

47 CFR Part 73

[MB Docket No. 23-296; RM-11964; DA 23-774; FR ID 168460]

Television Broadcasting Services Des Moines, Iowa

AGENCY: Federal Communications Commission.

ACTION: Proposed rule.

SUMMARY: The Commission has before it a petition for rulemaking (Petition) filed by Iowa Public Broadcasting Board (Petitioner or IPB), the licensee of noncommercial educational television PBS member station KDIN-TV (KDIN-TV or Station), channel *11, Des Moines, Iowa. The Petitioner requests the substitution of channel *34 in place of channel *11 at Des Moines, Iowa in the Table of TV Allotments, and requests that we delete vacant channel *34, Ames, Iowa and substitute it with the allotment of vacant channel *21 to Ames, Iowa.

DATES: Comments must be filed on or before October 5, 2023 and reply comments on or before October 20, 2023.

ADDRESSES: Federal Communications Commission, Office of the Secretary, 45 L Street NE, Washington, DC 20554. In addition to filing comments with the FCC, interested parties should serve counsel for the Petitioner as follows: Derek Teslik, Gray Miller Persh LLP, 2233 Wisconsin Ave. NW, Suite 226, Washington, DC 20007.

FOR FURTHER INFORMATION CONTACT: Emily Harrison, Media Bureau, at (202) 418-1665; or Emily Harrison, Media Bureau, at Emily.Harrison@fcc.gov.

SUPPLEMENTARY INFORMATION: In support, the Petitioner asserts that allowing the Station to move from a VHF to a UHF channel would serve the public interest by resolving viewer reception challenges and significantly improving the Station's over-the-air-service to the viewers in its existing service area. Petitioner includes with its Petition a number of viewer complaints highlighting current reception problems. Petitioner states that the Commission has recognized that VHF channels pose challenges for their use in providing digital television service, including propagation characteristics that allow undesired signals and noise to be receivable at relatively far distances and large variability in the performance of indoor antennas available to viewers, with most antennas performing very poorly on high VHF channels. An engineering statement provided by the Petitioner confirms that the proposed channel *34 contour would provide full principal community coverage to Des Moines, Iowa. The proposed move from channel *11 to channel *34 is also not predicted to create a loss of service to any viewers and according to the engineering statement will actually increase the area covered while serving the population with higher signal levels.

Petitioner acknowledges that the proposed channel substitution would not meet the distance separation requirements regarding the vacant channel *34 allotment at Ames, Iowa. As a result, Petitioner requests that simultaneously with the substitution of channel *34 at Des Moines, Iowa, we delete the vacant channel *34 allotment at Ames, Iowa and substitute it with the allotment of vacant channel *21 to Ames, Iowa. As stated in its supplemental engineering statement, the proposed channel *21 is described as meeting the distance criteria found in section 73.623(d) of the Commission's rules, and an analysis using the Commission's TVStudy software is provided showing no interference to any other station or allotment.

This is a synopsis of the Commission's Notice of Proposed Rulemaking, MB Docket No. 23-296; RM-11964; DA 23-774, adopted August 29, 2023, and released August 29, 2023. The full text of this document is available for download at https://www.fcc.gov/edocs. To request materials in accessible formats (Braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Iowa, revise the entry for Ames and Des Moines to read as follows:

§ 73.622 Digital television table of allotments.

* * * * *

(j) * * *

Community | Channel No.
* * * * *
Iowa
* * * * *
Ames | 5, *21, 23.
Des Moines | 8, 13, 16, 19, *34.

[FR Doc. 2023-19110 Filed 9-1-23; 8:45 am]

BILLING CODE 6712-01-P